DEPARTMENT OF JUSTICE

Antitrust Division

Notice Pursuant to the National Cooperative Research and Production Act of 1993—National Multi Housing Council

Notice is hereby given that, on September 17, 2004, pursuant to Section 6(a) of the National Cooperative Research and Production Act of 1993, 15 U.S.C. 4301 et seq. (“the Act”), the National Multi Housing Council (“NMHC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: National Multi Housing Council, Washington, DC. The nature and scope of NMHC's standards development activities are: To develop and promulgate open and voluntary standards for the apartment industry, thereby assisting the members of the industry and their business partners with the electronic exchange of information and enhancing the efficient operation of their businesses.

Dorothy B. Fountain,
Deputy Director of Operations, Antitrust Division.

[FR Doc. 04-24576 Filed 11-2-04; 8:45 am]

BILLING CODE 4410-11-M